DEPARTMENT OF TRANSPORTATION

Coast Guard

[USCG-2000-8229]

Notice of the Record of Decision for the Integrated Deepwater System Project

AGENCY: U.S. Coast Guard, DOT.

ACTION: Notice; record of decision.

SUMMARY: This notice advises the public of the U.S. Coast Guard's Record of Decision for the Integrated Deepwater System Project. The full text of the Record of Decision is included below under SUPPLEMENTARY INFORMATION.

ADDRESSES: The Department of Transportation Docket Management Facility maintains the public docket for the Integrated Deepwater System Project Programmatic Environmental Impact Statement. The Record of Decision will become part of this docket and will be available along with the Final Programmatic Environmental Impact Statement for inspection or copying at Room PL-401, located on the Plaza Level of the Nassif Building, 400 Seventh Street SW., Washington, DC 20590-0001, between 9 a.m. and 5 p.m., Monday through Friday, except for Federal holidays. You may also view this docket, including this record of decision, on the Internet at http://dms.dot.gov.

FOR FURTHER INFORMATION CONTACT: If you have questions on the Record of Decision, the Final Programmatic Environmental Impact Statement, or the Integrated Deepwater System, call LCDR Eric Johnson, Deepwater Environmental Planner, by telephone at 202-267-1665 or by e-mail at ejohnson@comdt.uscg.mil or read the Coast Guard's Deepwater EIS Web page at http://www.deepwatereis.com/. If you have questions on viewing material on the docket, call Dorothy Beard, Chief, Dockets, Department of Transportation, telephone 202-366-9329.

SUPPLEMENTARY INFORMATION: The Coast Guard has issued its Record of Decision for the Integrated Deepwater System Project. The full text of the Record of Decision follows:

U.S. Coast Guard,

Record of Decision

The United States Coast Guard has published a Final Programmatic Environmental Impact Statement (PEIS) on the following project:

Integrated Deepwater System Project

Nation-wide

Purpose and Need

Most of the U.S. Coast Guard's mandated missions involve Deepwater operations. Deepwater operations are generally defined as those that require an extended on-scene presence, long transit times to reach the operating area, and/or the forward deployment of forces. The existing system of Deepwater assets has excessive operating and maintenance costs and lacks essential capabilities in speed, sensors, and interoperability, that limit overall Deepwater mission effectiveness and efficiency. Moreover, most of these assets will reach the end of their economically useful lives within the next 10 years (block obsolescence). The Coast Guard's fleet of medium and high endurance cutters are older than 36 of the world's 39 major naval fleets. This comes at a time when the demand on Deepwater missions is steadily increasing. The most recent increase in demand is in the area of homeland security. The need to defend our country against terrorism and rogue nations' hostilities has put a very large demand on the Coast Guard's limited resources. To address these issues, the Coast Guard is proposing to acquire an integrated system of new and/or modernized surface and air assets and logistics, communication, and sensor systems. This system of systems is designed to maximize operational effectiveness at the lowest possible cost to the taxpayer. It will minimize total ownership costs because new equipment is not as expensive to staff, operate and maintain. It will facilitate readiness. It will increase interoperability of assets among different mission areas and geographic districts. It will minimize disposal costs by utilizing more environmentally friendly components.

Alternatives Examined

No-Action Alternative: The Coast Guard would continue to operate existing assets, performing periodic upgrades to those assets until the end of their service lives. The Coast Guard would continue to replace assets on an asset-by-asset basis, as is traditionally done. One of the major problems with this alternative is that the Coast Guard would not have an integrated system; thus assets would not be able to communicate in real time, they would operate at different levels of efficiency (resulting in decreased efficiency throughout the system) and their maintenance costs would be higher.

Action Alternative: The Coast Guard would replace the existing collection of Deepwater assets with a system of integrated new assets. The new system of assets would be designed to work together to deliver maximum operational effectiveness for the lowest possible total ownership cost. The Coast Guard would continue to operate existing assets for as long as they can contribute to the maximum operational effectiveness/lowest total ownership cost concept.

Environmental Consequences

Environmental consequences of the Action Alternative would, in general, have a net minor to moderate beneficial impact on most resource areas. Specific impacts would vary across specific resources and regions; however, the overall collective effect would be better for the environment than the No Action Alternative. This is primarily due to the fact that the Action Alternative provides an efficient and integrated system of assets that would provide shorter response times and increased levels of protection for biological resources over the No Action Alternative. All current policies and guidelines designed to safeguard the environment from Coast Guard operations will continue under the Action Alternative.

Decision

The decision is the Action Alternative because it best meets the Coast Guard's mission needs in the 21st Century.

Environmentally Preferable Alternative

The environmentally preferable alternative is the Action Alternative because it provides an efficient and integrated system of assets that would provide shorter response times and increased levels of protection for biological resources over the No Action Alternative.

Relevant Decision Factors

The following are the economic, technical, USCG statutory missions, national policy considerations that were weighed in reaching my decision.

Economic: From an economic standpoint, the Action Alternative is less expensive in the long-term. Toward the end of an asset's economic service life, it is generally more prohibitive to maintain that asset than replace it. As time progresses, maintenance costs will escalate, resulting in the inefficient use of resources. Newer assets, with more environmentally friendly components will cost less to dispose of at the end of their service life.

Technical: From a technical standpoint, the Action Alternative will result in a modern system of systems with increased interoperability and efficiency and effectiveness in carrying out mandated missions. Due to size, weight, age and power concerns, existing assets cannot fully capture the benefits of changes in technology. The Action Alternative will resolve these problems. Many manufacturers have cancelled production and support for the equipment on existing assets. The Action Alternative will also resolve these problems.

USCG Statutory Missions: The Coast Guard must maintain mission effectiveness in all 14 of the currently mandated Deepwater missions. Studies by the Office of Naval Intelligence and others foresee global events, such as the doubling world population, the continued decline in marine fisheries, the end of the Cold War and the associated rise in ethnic and cultural conflicts worldwide, and the tripling of international commerce, as greatly increasing the nation's reliance on the Coast Guard. In addition, increases in the numbers of cruise ships and recreational boats will create more requirements for Coast Guard services. These increases in demand have required the Coast Guard to increase its efforts toward environmental and living marine resources protection, illegal immigration, and drug smuggling, and vessel inspection. The Action Alternative will help to support these increased demands.

National Policy Considerations: One of the 14 mandated Coast Guard Deepwater missions is National Defense. In addition, the most recent increase in demand in the area of homeland security has increased the demand on the Coast Guard's limited resources. Homeland security initiatives have also increased the demand for international operations, either individually or jointly with other armed forces. The Action Alternative will help to support these increased demands.

Mitigation

On a programmatic level, all practical means to avoid or minimize environmental harm from the selected alternative have been adopted. This is due primarily to the three environmental requirements placed on the competing industry teams in the System Performance Specification. These were: (1) Minimize the negative impact on the environment; (2) meet current and projected international, federal, state and local environmental regulations throughout its life cycle; and (3) minimize energy consumption for all Deepwater assets. Environmental harm will be avoided or minimized during design, construction, deployment, operation and disposal of Deepwater assets by the actions of the Environmental Protection Working Group as described in section 2.2.1 of the Programmatic EIS. The Coast Guard also stated in the Programmatic EIS that all Coast Guard regulations concerning environmental protection will remain in force for the Integrated Deepwater System.

Because of the broad, programmatic nature of the Integrated Deepwater System Project Programmatic EIS, it is not currently possible to state emphatically that all practical means of avoiding or minimizing environmental harm have been adopted at the site-specific level. However, as a means to avoid or minimize environmental harm at the site-specific level, the Coast Guard has stated in the Programmatic EIS and restates here that follow-on NEPA documentation will address site-specific issues including potential mitigation measures. This tiered documentation will be completed on a level as comprehensive as possible while remaining commensurate with Coast Guard decisions being made.

In reaching my decision on the U.S. Coast Guard's proposed action, I have considered the information contained in the Integrated Deepwater System Project Programmatic EIS on the potential for environmental impacts.

Dated: June 18, 2002.
Robert S. Horowitz,
Director of Finance and Procurement, U.S. Coast Guard.

[FR Doc. 02-15892 Filed 6-21-02; 8:45 am]

BILLING CODE 4910-15-P